DEPARTMENT OF AGRICULTURE

Food Safety and Inspection Service

[Docket No. FSIS-2021-0021]

National Advisory Committee on Meat and Poultry Inspection; Nominations for Membership

AGENCY: Food Safety and Inspection Service, USDA.

ACTION: Notice to solicit nominations for membership.

SUMMARY: The U.S. Department of Agriculture (USDA) is soliciting nominations for membership for the National Advisory Committee on Meat and Poultry Inspection (NACMPI). The full Committee consists of 20 members, and each person selected is expected to serve a 2-year term. The USDA is announcing Committee vacancies to minority businesses and organizations, consumer groups, businesses, media, local and state governments, and academia to attract and appoint diverse candidates. The USDA expects to appoint new Committee members for the entire committee in 2022.

DATES: Nominations, including a cover letter to the Secretary, the nominee's typed resume or curriculum vitae, and a completed USDA Advisory Committee Membership Background Information form AD-755, must be received by February 18, 2022. Self-nominations are welcome.

ADDRESSES: The USDA Advisory Committee Membership Background Information form AD-755 is available online at: https://www.fsis.usda.gov/sites/default/files/2020-08/AD-755_0512.doc.

FOR FURTHER INFORMATION CONTACT: Valeria Green, Designated Federal Official, National Advisory Committee on Meat and Poultry Inspection, U.S. Department of Agriculture, by telephone at (301) 504-0846, Email: valeria.green@usda.gov, regarding specific questions about the Committee or this solicitation. General information about the Committee can also be found at: https://www.fsis.usda.gov/nacmpi.

SUPPLEMENTARY INFORMATION:

Background

In accordance with the Federal Advisory Committee Act (5 U.S.C. App. 2), USDA is seeking nominees for membership on the National Advisory Committee on Meat and Poultry Inspection (NACMPI). The Committee provides advice and recommendations to the Secretary of Agriculture on meat and poultry inspection programs (see 21 U.S.C. 607(c), 624, 645, 661(a)(3), and 661(c) and 21 U.S.C. 454(a)(3), 454(c), 457(b), and 460(e)). Nominations for membership are being sought from persons representing industry; academia; State and local government officials; public health organizations; and consumers and consumer organizations. NACMPI is seeking members with knowledge and interest in meat and poultry food safety and other FSIS policies. Appointments to the Committee will be made by the Secretary of Agriculture. To ensure that recommendations of the Committee consider the needs of the diverse groups served by the Department, membership will include, to the extent practicable, individuals with demonstrated ability to serve on behalf of underrepresented minorities, women, and persons with disabilities. It is anticipated that the Committee will meet at least once annually. Please note that federally registered lobbyists cannot be considered for USDA advisory committee membership. Members can only serve on one USDA advisory committee at a time. All nominees will undergo a USDA background check.

How To Apply

To receive consideration for service on the NACMPI, a nominee must submit their resume and the USDA Advisory Committee Membership Background Information form AD-755. The resume or curriculum vitae must be limited to five one-sided pages and should include the nominee's educational background and expertise. For submissions received that are more than five one-sided pages in length, only the first five pages will be reviewed. The USDA Advisory Committee Membership Background Information form AD-755 is available online at: https://www.ocio.usda.gov/sites/default/files/docs/2012/AD-755-Approved_Master-exp-3.31.22_508.pdf. The AD-755 will only be considered if it is complete.

Nomination packages should be accompanied by a resume or curriculum vitae and AD-755 form and can be sent via email to Valeria Green, Director, Resource and Administrative Staff, Office of Policy and Program Development, Food Safety and Inspection Service at NACMPI@usda.gov.

Regarding Nominees Who Are Selected

The USDA Office of Ethics determines who will be designated as Special Government Employees (SGE) and must complete the U.S. Office of Government Ethics (OGE) 450 Confidential Financial Disclosure Report electronically through the USDA online system before rendering any advice or before their first meeting. SGEs are required to update financial forms yearly. An invitation to fill out the OGE 450 form will be sent via email before the NACMPI meeting. All members will be reviewed for conflict of interest pursuant to 18 U.S.C. 208 in relation to specific NACMPI work charges. Advisory Committee members serve a two-year term, renewable for two consecutive terms.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410; (2) fax: (202) 690-7442; or (3) email: program.intake@usda.gov.

USDA is an equal opportunity provider, employer, and lender.

Additional Public Notification

Public awareness of all segments of rulemaking and policy development is important. Consequently, FSIS will announce this Federal Register publication online through the FSIS web page located at: https://www.fsis.usda.gov/federal-register.

FSIS also will announce and provide a link to it through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at https://www.fsis.usda.gov/subscribe.

Options range from recalls to export information, regulations, directives, and notices. Customers can add or delete subscriptions themselves and have the option to password protect their accounts.

Dated: December 14, 2021.
Cikena Reid,
USDA Committee Management Officer.

[FR Doc. 2021-27434 Filed 12-17-21; 8:45 am]

BILLING CODE 3410-DM-P